DEPARTMENT OF HEALTH AND HUMAN SERVICES

National Institutes of Health/National Institute of Environmental Health Sciences

Laboratory of Pulmonary Pathobiology; Submission for OMB Review; Comment Request; Use of In-Home Test Kits in Dust Mite Allergen Reduction

SUMMARY: Under the provisions of Section 3507(a)(1)(D) of the Paperwork Reduction Act of 1995, the National Institute of Environmental Health Sciences (NIEHS), the National Institutes of Health (NIH) has submitted to the Office of Management and Budget (OMB) a request to review and approve the information collection listed below. This proposed information collection was previously published in the Federal Register on October 21, 2004, pages 61853-61854, and allowed 60 days for public comment. No public comments were received although one person sent an e-mail expressing interest in the study and asking if she could participate. She was told this was a pilot study to be carried out in a specific location in North Carolina. The purpose of this notice is to allow an additional 30 days for public comment. The National Institutes of Health may not conduct or sponsor, and the respondent is not required to respond to, an information collection that has been extended, revised, or implemented on or after October 1, 1995, unless it displays a currently valid OMB control number.

Proposed Collection: Title: Use of In-home Test Kits in Dust Mite Allergen Reduction. Type of Information Collection Request: New. Need and Use of Information Collection: This request for OMB review and approval of the information collection is required by regulation 42 CFR part 65(a)(6). Asthmatics and others with dust mite allergies often implement strategies to avoid dust mite exposure, but have little objective evidence that their interventions are successful in reducing dust mite populations. Recently developed in-home test kits have introduced the capability to monitor the effectiveness of allergen reduction strategies by providing an affordable, simple way to measure dust mite allergens on a regular basis. The primary objective of this study is to determine if use of in-home test kits results in decreased dust mite allergen levels in home of children sensitive or allergic to dust mites. A secondary objective is to determine if use of in-home test kits result in additudinal and behavioral changes related to implementing and maintaining dust mite reduction strategies. This study is a randomized intervention trial designed to test the efficacy of an in-home test kit in influencing behaviors to reduce dust mite allergen levels. Households will be recruited through flyers and will be screened for eligibility through a recruitment call line and a home visit to determine baseline dust mite levels in the household. Study participants will be randomly assigned to a treatment or control group. The treatment group will receive educational materials and an in-home test kit at set intervals, while the control group will receive educational materials alone. Vacuumed dust samples will be collected and delivered to the NIEHS laboratory for ELISA-based measurements of the dust mite allergens Der f2 and Der p 2. A questionnaire will be used to collect information on home characteristics and on dust mite reduction attitudes and behaviors. Data will be collected at baseline, 6 months and 12 months. The results from this study will be used by NIEHS to plan future primary and secondary asthma prevention trials. Frequency of Response: After the two stages of eligibility screening, data will be collected at baseline, 6-months, and 12-months. Type of Respondents: Parents of children with dust-mite allergies. The annual reporting burden is as follows: Estimated Number of Respondents: See table below; Estimated Number of Responses per Respondent: See table below; Average Burden Hours Per Response: 0.25 hour for initial screening, 0.5 hour for dust mite eligibility screening, 1.5 hours for each baseline visit, and 1 hour for each follow-up home visit (6- and 12-month); and Estimated Total Annual Burden Hours Requested: 690.5. The annualized cost to respondents is estimated at: $13,810 (assuming $20 hourly wage × 690.5 hours). There are no Capital Costs, Operating Costs and/or Maintenance Costs to report.

Calculation for Data Burden of Dust Mite Allergen Reduction Study
Type of data collection | Number of respondents | Hours per response | Total hours
Eligibility Screening | 450 | 0.25 | 112.5
Dust Mite Level Eligibility Screening | 280 | 0.5 | 140.0
Baseline Visit | 144 | 1.5 | 216.0
6-month follow-up | 122 | 1.0 | 122.0
12-month follow-up | 100 | 1.0 | 100.0
Total hours |  |  | 690.5

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Dr. Darryl Zeldin, NIEHS, Laboratory of Pulmonary Pathobiology, P.O. Box 12233, Research Triangle Park, NC 27709 or call non-toll-free number (919) 541-1169 or e-mail your request, including your address to dz20a@niehs.nih.gov.

Comments Due Date: Comments regarding this information collection are best assured of having their full effect if received within 30 days of the date of this publication.

Dated: January 11, 2006.
Richard A. Freed,
Associate Director for Management, NIEHS, National Institutes of Health.

[FR Doc. 06-513 Filed 1-19-06; 8:45 am]

BILLING CODE 4140-01-M